DEPARTMENT OF COMMERCE

National Oceanic and Atmospheric Administration

50 CFR Part 600

[I.D. 021004C]

Magnuson-Stevens Act Provisions; General Provisions for Domestic Fisheries; Application for Exempted Fishing Permits (EFPs)

AGENCY: National Marine Fisheries Service (NMFS), National Oceanic and Atmospheric Administration (NOAA), Commerce.

ACTION: Notification of a proposal for EFPs to conduct experimental fishing; request for comments.

SUMMARY: The Assistant Regional Administrator for Sustainable Fisheries, Northeast Region, NMFS (Assistant Regional Administrator) has made a preliminary determination that the subject EFP application contains all the required information and warrants further consideration. The Assistant Regional Administrator has also made a preliminary determination that the activities authorized under the EFP would be consistent with the goals and objectives of the Northeast (NE) Multispecies Fishery Management Plan (FMP). However, further review and consultation may be necessary before a final determination is made to issue the EFP. Therefore, NMFS announces that the Assistant Regional Administrator proposes to recommend that an EFP be issued that would allow one commercial fishing vessel to conduct fishing operations that are otherwise restricted by the regulations governing the fisheries of the Northeastern United States. The EFP would allow exemptions from the FMP as follows: the Days-At-Sea (DAS) notification requirements, the effort-control program, the fishing restrictions imposed by the Gulf of Maine (GOM) rolling closure areas, the minimum mesh size requirements specified for the GOM Regulated Mesh Area, and the minimum fish size requirements for the temporary retention of undersized fish for data collection purposes. The EFP would allow these exemptions for not more than 25 days of sea trials. All experimental work would be monitored by University of New Hampshire (UNH) Cooperative Extension scientists/observers.

Regulations under the Magnuson-Stevens Fishery Conservation and Management Act require publication of this notification to provide interested parties the opportunity to comment on applications for proposed EFPs.

DATES: Comments on this document must be received on or before March 3, 2004.

ADDRESSES: Comments on this notice may be submitted by e-mail. The mailbox address for providing e-mail comments is DA391@noaa.gov. Include in the subject line of the e-mail comment the following document identifier: “Comments on UNH Cooperative Extension Codend Mesh Size Selectivity Study.” Written comments should be sent to Patricia A. Kurkul, Regional Administrator, NMFS, Northeast Regional Office, 1 Blackburn Drive, Gloucester, MA 01930. Mark the outside of the envelope “Comments on UNH Cooperative Extension Codend Mesh Size Selectivity Study.” Comments may also be sent via facsimile (fax) to (978) 281-9135.

FOR FURTHER INFORMATION CONTACT: Brian Hooker, Fishery Management Specialist, phone 978-281-9220.

SUPPLEMENTARY INFORMATION: The UNH Cooperative Extension submitted an application for an EFP on January 14, 2004. The application was complete as received. This EFP would complete the final year's testing of a 2-year study. The EFP application requests authorization to use one commercial fishing vessel to conduct sea trials utilizing a 3-inch (7.6 cm) mesh hydrodynamic codend cover. The codend cover would be used to determine species and size selectivity of different trawl codend mesh sizes in the GOM multispecies fishery. Furthermore, the proposal seeks to determine fish retention in large mesh codends for GOM cod, haddock, whiting, and flounder (winter, witch, and American plaice). The experiment would compare the selectivity of 6.5-inch (16.5 cm) diamond mesh, 6.5-inch (16.5 cm) square mesh, 7-inch (17.8 cm) diamond mesh, and 7-inch (17.8 cm) square mesh codends against the 6-inch (15.2 cm) diamond mesh specified in the regulations as the minimum allowable mesh size. Underwater video technology would be employed to observe the codend, the cover, and the fish escaping from the net. The biological impact of mesh size increases, including fishing mortality and discard rates of regulated multispecies would be analyzed. The results of this mesh selectivity study would then be made available to the New England Fishery Management Council and NMFS.

The at-sea portion of the experiment would last no longer than 25 days between May 1, 2004, and April 30, 2005. The activity would occur in Federal waters off the coast of New Hampshire, excluding the Western GOM closure area. A total of 75, 1-hour tows at 2.8 knots would be conducted (three per day). UNH researchers would be required to be aboard the vessel at all times during the experimental work. All undersized fish would be returned to the sea as quickly as possible after measurement and examination. However, legal-sized fish that otherwise would have to be discarded would be allowed to be retained and sold, within applicable GOM possession limits. The participating vessel would be required to report all landings in its Vessel Trip Report. The catch levels are not expected to have a detrimental impact on the NE multispecies resources. Estimated total landings for the 25 DAS, based upon the previous year's results, are: Yellowtail flounder 9,790 lb (4,441 kg); American plaice 4,405 lb (1,998 kg); witch flounder 7,132 lb (3,235 kg); winter flounder 469 lb (213 kg); cod 9,901 lb (4,491 kg); and haddock 13,478 lb (6,114 kg). Because the vessel would be fishing with a 3-inch (7.6 cm) codend cover, total discards are expected to exceed that of normal fishing operations. Total discards are estimated to be: Yellowtail flounder 7,046 lb (3,196 kg); American plaice 4,404 lb (1,998 kg); witch flounder 6,230 lb (2,826 kg); winter flounder 678 lb (308 kg); cod 18,670 lb (8,469 kg); haddock 5,055 lb (2,293 kg); spiny dogfish 5,000 lb (2,268 kg); thorny skates 5,000 lb (2,268 kg); red hake 5,000 lb (2,268 kg); and whiting 7,000 lb (3,175 kg). Researchers will take precautions to avoid areas where there are concentrations of undersized fish.

Authority: 16 U.S.C. 1801 et seq.

Dated: February 11, 2004.
Peter H. Fricke,
Acting Director, Office of Sustainable Fisheries, National Marine Fisheries Service.

[FR Doc. 04-3391 Filed 2-13-04; 8:45 am]

BILLING CODE 3510-22-S